DEPARTMENT OF THE INTERIOR

Fish and Wildlife Service

[FWS-R5-R-2011-N128; BAC-4311-K9-S3]

Elizabeth Hartwell Mason Neck National Wildlife Refuge, Fairfax County, VA, and Featherstone National Wildlife Refuge, Prince William County, VA

AGENCY: Fish and Wildlife Service, Interior.

ACTION: Notice of availability: final comprehensive conservation plan and finding of no significant impact.

SUMMARY: We, the U.S. Fish and Wildlife Service (Service), announce the availability of our final comprehensive conservation plan (CCP) and finding of no significant impact (FONSI) for Elizabeth Hartwell Mason Neck (Mason Neck) and Featherstone National Wildlife Refuges (NWRs; refuges). In this final CCP, we describe how we will manage these refuges for the next 15 years.

ADDRESSES: You may view or obtain copies of the final CCP and FONSI by any of the following methods. You may request a hard copy or a CD-ROM.

Agency Web site: Download a copy of the document at http://www.fws.gov/northeast/planning/MasonNeck_Featherstone/ccphome.html.

E-mail: Send requests to northeastplanning@fws.gov. Include “Mason Neck and Featherstone Refuges CCP” in the subject line of your e-mail.

Mail: Nancy McGarigal, Natural Resource Planner, U.S. Fish and Wildlife Service, 300 Westgate Center Drive, Hadley, MA 01035.

Fax: Attention: Nancy McGarigal, 413-253-8468.

In-Person Viewing or Pickup: Call 703-490-4979 to make an appointment during regular business hours at the Potomac River NWR Complex headquarters office, 14344 Jefferson Davis Highway, Woodbridge, VA 22191-2716.

FOR FURTHER INFORMATION CONTACT: Greg Weiler, Refuge Manager, Potomac River NWR Complex, 14344 Jefferson Davis Highway, Woodbridge, VA 22191-2716; phone: 703-490-4979; fax: 703-490-5631; e-mail: fw5rw_msnnwr@fws.gov.

SUPPLEMENTARY INFORMATION:

Introduction

With this notice, we finalize the CCP process for Mason Neck and Featherstone NWRs. We started this process through a notice of intent in the Federal Register (72 FR 28066) on May 18, 2007. We released the draft CCP/environmental assessment (EA) to the public, announcing and requesting comments in a notice of availability in the Federal Register (76 FR 582) on January 5, 2011.

Mason Neck and Featherstone NWRs, together with Occoquan Bay NWR, comprise the Potomac River NWR Complex, which is headquartered in Woodbridge, Virginia. Mason Neck NWR was established in 1969 as the first NWR specifically created to protect a Federally listed species. The refuge was created under the authority of the Endangered Species Preservation Act of 1966, the precursor to the Endangered Species Act of 1973. The bald eagle (Haliaeetus leucocephalus), which was Federally listed as threatened in 1969, was, and continues to be, the focal species of concern on the refuge. Due to successful recovery efforts throughout its range, the bald eagle was officially removed from the Federal List of Endangered and Threatened Wildlife (50 CFR 17.11(h)) in 2007. It continues to be protected, however, under other Federal laws and State law in Virginia. Mason Neck NWR encompasses 2,277 acres of forest, marsh, and riverine habitat along Occoquan Bay and the mainstem of the tidal Potomac River. Refuge visitors engage in wildlife observation and photography, environmental education and interpretation, and deer hunting.

Featherstone NWR was established in 1979 with land acquired from the District of Columbia. It was further expanded in 1992 with lands donated by Prince William County. It presently encompasses 325 acres of marsh and forested riverine habitat along the southwest edge of Occoquan Bay. Its wetlands are important habitat for bald eagles, wading birds, waterbirds, and waterfowl, as well as other native species of conservation concern. The refuge has been closed to public use and access since its establishment because there is no public parking available or safe access across active railroad tracks, which lie along the length of the refuge's western boundary.

We announce our decision and the availability of the FONSI for the final CCP for Mason Neck and Featherstone NWRs in accordance with National Environmental Policy Act (NEPA) (40 CFR 1506.6(b)) requirements. We completed a thorough analysis of impacts on the human environment, which we included in the draft CCP/EA.

The CCP will guide us in managing and administering Mason Neck and Featherstone NWRs for the next 15 years. Alternative B, as described for both refuges in the draft CCP/EA, and with the modifications described below, is the foundation for the final CCP.

Background

The National Wildlife Refuge System Administration Act of 1966 (16 U.S.C. 668dd-668ee) (Administration Act), as amended by the National Wildlife Refuge System Improvement Act of 1997, requires us to develop a CCP for each NWR. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including the Selected Alternative

Our draft CCP/EA (76 FR 582) addressed several key issues, including:

• Managing forested habitat to benefit bald eagles, great blue heron, other migratory birds of conservation concern, and other native wildlife species;

• Protecting wetland habitat to benefit waterbirds, waterfowl, and migratory fish;

• Expanding and enhancing wildlife-dependent recreational opportunities; and

• Providing public access to Featherstone NWR.

To address these issues and develop a plan based on each refuge's establishing purposes, vision, and goals, we evaluated three alternatives for Mason Neck NWR and two alternatives for Featherstone NWR in the draft CCP/EA. The alternatives for both Mason Neck and Featherstone NWRs have some actions in common, such as controlling invasive species, monitoring wildlife diseases, encouraging research that benefits our resource decisions, protecting cultural resources, and distributing refuge revenue sharing payments to Fairfax and Prince William Counties.

There are other actions that differ among the alternatives. The draft CCP/EA describes each alternative in detail and relates them to the issues and concerns that arose during the planning process. Below, we provide summaries for the three Mason Neck NWR alternatives evaluated in the draft CCP/EA, followed by summaries for the two Featherstone NWR alternatives.

Mason Neck Refuge Alternatives

Alternative A (Current Management)

This alternative is the “No Action” alternative required by NEPA. Alternative A defines our current management activities, including those planned, funded, or underway, and serves as the baseline against which to compare alternatives B and C. Alternative A would maintain our present refuge staffing level and our visitor services facilities, including existing trails and viewing platforms. We would continue to emphasize wildlife observation and photography opportunities, and provide a fall deer hunt. Our biological program priorities would continue to be protecting the refuge's wetlands and upland forest for migratory birds, with particular emphasis on protecting nesting bald eagles and the great blue heron rookery. Controlling invasive plants and forest pests would also continue to be an important part of our program.

Alternative B (Improved Management for Trust Resources)

This is the Service-preferred alternative. It combines the actions we believe would best achieve the refuge's purposes, vision, and goals, and the intent of NWRS policy on Biological Integrity, Diversity, and Environmental Health (601 FW 3). This alternative would also best respond to the issues that arose during the planning process.

Alternative B would improve our management of refuge habitats to support Federal trust resources and species of conservation concern. In particular, our priority would be to enhance our management of the refuge's upland forests to benefit bald eagles, great blue heron, and other forest-dependent migratory birds through measures that improve forest health. Managing deer populations to minimize overbrowsing and controlling invasive plants and pests are actions planned. We would also pursue actions to improve habitat quality in the refuge's marsh habitat to benefit bald eagles, waterfowl, waterbirds, and migratory fish. These actions include working with partners to improve water quality and clean up debris in Great Marsh. In Little Marsh, we would upgrade the water control structure and alter the water level regime to promote better foraging opportunities for waterbirds and bald eagles, and to improve fish passage. In addition, we would work with partners to evaluate shoreline erosion risk and identify ways to address erosion in anticipation of climate change impacts.

The improvement of our current trails, and the addition of new trails and observation platforms, would offer increased opportunities for wildlife observation, photography, and interpretation. We would also expand our interpretive programs and outreach efforts to inform and involve more people in working towards refuge goals. In addition, once administrative and funding resources are in place, we would offer a youth turkey hunt and consider expanding our existing deer hunt.

Alternative C (Enhanced Public Use Management)

Alternative C would manage habitat similar to alternative A, but would expand wildlife-dependent public use programs beyond that which is proposed under either alternatives A or B. We would devote more staff time and resources to offering new or improved priority public use programs. For example, we would offer a new muzzleloader deer hunting season, construct additional photography blinds, and offer more guided and self-guided wildlife observation tours and environmental education programs.

Featherstone Refuge Alternatives

Alternative A (Current Management)

Similar to alternative A for Mason Neck NWR, this alternative satisfies the NEPA requirement for a “No Action” alternative. It describes our current management priorities and activities, and serves as a baseline for comparing and contrasting alternative B. Under alternative A, Featherstone NWR would continue to be closed to all public use and access. Our priorities would be to protect the refuge from vandalism and trespassing, control invasive plants, and monitor for threats to wildlife and habitats.

Alternative B (Enhanced Management)

This is the Service-preferred alternative. Habitat and species management would focus on protecting sensitive bald eagle areas from human disturbance and improving the monitoring and treatment of invasive plants, pests, and pathogens to avoid catastrophic loss or degradation of habitat. Similar to our proposal under alternative B for Mason Neck NWR, we would work with partners to evaluate shoreline erosion risk and identify ways to address it in anticipation of climate change impacts.

Under alternative B, we would also continue to work with Prince William County to secure public parking and legal and safe pedestrian access to the refuge, which has been an issue since refuge establishment. Once that access is secured, and we have the additional staff to manage those activities, we would provide opportunities for wildlife observation and nature photography on designated trails, and fishing at designated sites.

Under alternative B, once we have administrative and funding resources in place, we would evaluate a proposal to provide hunting opportunities on refuge lands. Other alternatives, including no action, would be considered in that hunt program evaluation, and there would be public involvement before making a final decision on the types of hunting opportunities offered.

Comments

We solicited comments on the draft CCP/EA for Mason Neck and Featherstone NWRs from January 5 to February 22, 2011 (76 FR 582). During the comment period, we received 79 responses, both oral and written. All comments we received were evaluated. A summary of those comments, and our responses to them, is included as appendix G in the final CCP.

Selected Alternative

After considering the comments we received on our draft CCP/EA, we have made one modification to alternative B for Featherstone NWR. We have decided to allow non-motorized boaters to land at one designated site on the refuge's shoreline to facilitate wildlife observation and nature photography. The designated landing site is a portion of tidal beach on Farm Creek (refer to the final CCP, chapter 4, map 4.3 for details) and corresponds with the proposed location of the southernmost observation deck and fishing platform that we presented in the draft CCP/EA (refer to the draft CCP/EA, chapter 3, map 3.3 for details). Visitors accessing the refuge at this location by non-motorized boats would be allowed to walk approximately 0.4 miles along an existing footpath (indicated on map 4.3 in the final CCP). Boaters would be confined to this section of footpath until the rest of the refuge is officially open to public use, as was detailed in the draft CCP/EA. Other minor changes to alternative B for both refuges are described in the FONSI (appendix H in the final CCP) and in our response to public comments (appendix G in the final CCP).

We have selected alternative B to implement for both Mason Neck and Featherstone NWRs, with the changes identified above, for several reasons. Alternative B for both refuges comprises a mix of actions that, in our professional judgment, work best towards achieving each refuges' purposes, visions, and goals, NWRS policies, and the goals of other State and regional conservation plans. We also believe that alternative B most effectively addresses the key issues raised during the planning process. The basis of our decision is detailed in the FONSI, which is included as appendix H in the final CCP.

Public Availability of Documents

You can view or obtain documents as indicated under ADDRESSES.

Dated: August 22, 2011.
Wendi Weber,
Acting Regional Director, U.S. Fish and Wildlife Service, Hadley, MA 01035.

[FR Doc. 2011-24552 Filed 9-22-11; 8:45 am]

BILLING CODE 4310-55-P